DEPARTMENT OF ENERGY

Federal Energy Regulatory Commission

Notice of Application and Soliciting Comments, Motions To Intervene, and Protests

July 27, 2006.

Take notice that the following report has been filed with the Commission and is available for public inspection:

a. Filing Type: Recreation Plan Update.

b. Project No: 2459-179.

c. Date Filed: June 29, 2006.

d. Applicant: Allegheny Energy Supply Company, LLC (AE).

e. Name of Project: Lake Lynn Hydroelectric Project.

f. Location: On the Cheat River, in Monongalia County, West Virginia, and Fayette County, Pennsylvania.

g. Filed Pursuant to: Federal Power Act, 16 U.S.C. 791(a)-825(r).

h. Applicant Contact: Mr. Charles L. Simon, 4350 Northern Pike, Monroeville, PA 15146-2841. Phone: (412) 858-1675.

i. FERC Contact: Any questions on this notice should be addressed to Shana High at (202) 502-8674 or shana.high@ferc.gov.

j. Deadline for filing comments and/or motions: August 28, 2006.

All documents (original and eight copies) should be filed with: Magalie R. Salas, Secretary, Federal Energy Regulatory Commission, 888 First Street, NE., Washington, DC 20426. Please include the project number (P-2459-179) on any comments or motions filed. Comments, protests and interventions may be filed electronically via the Internet in lieu of paper. See, 18 CFR 385.2001(a)(1)(iii) and the instructions on the Commission's Web site under the “eFiling” link.

k. Description of Proposal: AE developed an Updated Recreation Plan (plan) to comply with article 417 of the project license. The plan was prepared following an evaluation of facility usage data and addresses recreation use as well as the adequacy of facilities. Specifically, the update addresses safety and security, boating and navigation, swimming, and camping.

l. Locations of the Application: This filing is available for review and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. For assistance, please contact FERC Online Support at FERCOnlineSupport@ferc.gov or call toll-free 1-866-208-3676, or for TTY, contact (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See, 18 CFR 385.2001(a)(1)(iii) and the instructions on the Commission's Web site at http://www.ferc.gov under the “eFiling” link.

Magalie R. Salas,
Secretary.

[FR Doc. E6-12508 Filed 8-2-06; 8:45 am]

BILLING CODE 6717-01-P